NUCLEAR REGULATORY COMMISSION

[Docket No. 40-8027]

Notice of Consideration of Amendment Request for Sequoyah Fuels Corp., Gore, OK and Opportunity for a Hearing

The U.S. Nuclear Regulatory Commission (NRC) is considering issuance of a license amendment to materials license SUB-1010 issued to Sequoyah Fuels Corp. (SFC), to possess byproduct material as defined in the Atomic Energy Act (AEA) Section 11e.(2) at its site near Gore, Oklahoma.

On January 5, 2001, SFC requested that the Nuclear Regulatory Commission (NRC) determine if waste material from the solvent extraction process at its site could be classified as AEA 11e.(2) byproduct material. By Staff Requirements Memorandum to SECY-02-0095, dated July 25, 2002, the Commission concluded that some of the waste at the SFC site could properly be classified as AEA 11e.(2) byproduct material. By letter dated September 30, 2002, SFC requested license SUB-1010 be amended to possess 11e.(2) byproduct material. An NRC administrative review found the request for license amendment (LA) acceptable to begin a technical review. If NRC approves the amendment request, SFC will be required to submit a reclamation plan for the site that meets the requirements of Appendix A to 10 CFR 40. If that plan is approved and SFC remediates the site to the specified criteria, the U.S. Department of Energy would become the owner of the land and responsible for long term stewardship under provisions of Title II to the Uranium Mill Tailings Radiation Control Act.

If the NRC approves this LA, the approval will be documented in an amendment to NRC license SUB-1010. NRC considers the amendment to be administrative in nature, in that the Commission has determined that material possessed by SFC is 11e.(2) byproduct material and the license amendment will give SFC formal permission to possess that material. There will be no changes in the management of the facility, changes to the facility itself or to license conditions or procedures as a result of the proposed amendment that could impact public health, safety or the environment. Therefore, neither a Safety Evaluation Report nor an environmental evaluation will be prepared for the amendment.

NRC hereby provides notice that this is a proceeding on an application for an amendment of a license falling within the scope of Subpart L, “Informal Hearing Procedures for Adjudication in Materials Licensing Proceedings,” of NRC's rules of practice for domestic licensing proceedings in 10 CFR part 2. Pursuant to § 2.1205(a), any person whose interest may be affected by this proceeding may file a request for a hearing in accordance with § 2.1205(d). A request for a hearing must be filed within thirty (30) days of the date of publication of this Federal Register notice.

The request for a hearing must be filed with the Office of the Secretary either:

1. By delivery to Secretary, U.S. Nuclear Regulatory Commission, One White Flint North, 11555 Rockville Pike, Rockville, MD 20852-2738;, between 7:45 a.m. and 4:15 p.m. Federal workdays; or

2. By mail, telegram, or facsimile addressed to the Secretary, U.S. Nuclear Regulatory Commission, Washington, DC 20555-0001. Attention: Docketing and Services Branch. Because of continuing disruptions in the delivery of mail to United States Government offices, it is requested that requests for hearing be also transmitted to the Secretary of the Commission either by means of facsimile transmission to 301-415-1101, or by e-mail to hearingdocket@nrc.gov.

In accordance with 10 CFR § 2.1205(f), each request for a hearing must also be served, by delivering it personally or by mail, to:

1. The applicant, Sequoyah Fuels Corporation, PO Box 610, Gore, Oklahoma, Attention: Mr. John Ellis, and;

2. The NRC staff, by delivery to the Office of the General Counsel, U.S. Nuclear Regulatory Commission, One White Flint North, 11555 Rockville Pike, Rockville, MD 20852-2738, between 7:45 a.m. and 4:15 p.m. Federal workdays, or by mail, addressed to the Office of the General Counsel, U.S. Nuclear Regulatory Commission, Washington, DC 20555-0001. Because of continuing disruptions in the delivery of mail to United States Government offices, it is requested that requests for hearing be also transmitted to the Office of the General Counsel either by means of facsimile transmission to 301-415-3725, or by e-mail to OGCMailCenter@nrc.gov.

In addition to meeting other applicable requirements of 10 CFR part 2 of NRC's regulations, a request for a hearing filed by a person other than an applicant must describe in detail:

1. The interest of the requester in the proceeding;

2. How that interest may be affected by the results of the proceeding, including the reasons why the requester should be permitted a hearing, with particular reference to the factors set out in § 2.1205(h);

3. The requester's areas of concern about the licensing activity that is the subject matter of the proceeding; and

4. The circumstance establishing that the request for a hearing is timely in accordance with § 2.1205(d).

FOR FURTHER INFORMATION: The application for amendment and supporting documentation are available for inspection at NRC's Public Electronic Reading Room on the NRC Web site http://www.nrc.gov/reading-rm.html. Questions with respect to this action should be referred to Mr. Myron Fliegel, Fuel Cycle Facilities Branch, Division of Fuel Cycle Safety and Safeguards, Office of Nuclear Material Safety and Safeguards, U.S. Nuclear Regulatory Commission, Washington, DC 20555-0001. Telephone: (301) 415-6629.

Dated at Rockville, Maryland, this 6th day of November, 2002.
For the Nuclear Regulatory Commission.
Scott W. Moore,
Acting Chief, Decommissioning Branch, Division of Waste Management, Office of Nuclear Material Safety and Safeguards.

[FR Doc. 02-28903 Filed 11-13-02; 8:45 am]

BILLING CODE 7590-01-P